DEPARTMENT OF HEALTH AND HUMAN SERVICES

Centers for Disease Control and Prevention

[60 Day-02-28]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project: National Public Health Performance Standards Program Local Public Health Governance Performance Assessment Instrument—New—Public Health Practice Program Office (PHPPO), Centers for Disease Control and Prevention (CDC).

Since 1998, the CDC National Public Health Performance Standards Program has convened workgroups with the National Association of County and City Health Officials (NACCHO), the Association of State and Territorial Health Officials (ASTHO), the National Association of Local Boards of Health (NALBOH), the American Public Health Association (APHA), and the Public Health Foundation (PHF) to develop performance standards for public health systems based on the ten Essential Services of Public Health. In the Spring of 2001, CDC conducted field tests with the local public health governance instruments in the state of Massachusetts.

CDC is now proposing to implement a voluntary data collection to assess the capacity of local boards of health to deliver the Essential Public Health Services. This data collection will provide a framework for local boards of health to evaluate their effectiveness. Electronic data submission will be the method of choice. If computer technology in local jurisdictions does not support electronic submission, hard copy survey instruments will be available. Local jurisdictions using hard copy survey instruments will receive assistance from State or local level field coordinators for web-based data entry.

Local boards of health will respond to the survey. An estimated 33% of approximately 3,200 United States local boards are expected to participate in the National Performance Standards Program per year.

There are no costs to respondents. The burden hours are estimated to be 30,198.

Respondents | Number of respondents | Number of responses/respondent | Average burden/response (in hrs.) | Total burden (in hrs.)
Local Boards of Health Year 1 | 1,066 | 1 | 10 | 10,660
Local Boards of Health Year 2 | 1,066 | 1 | 10 | 10,660
Local Boards of Health Year 3 | 1,066 | 1 | 10 | 10,660
Total |  |  |  | 30,198

Dated: February 13, 2002.
John Moore,
Acting Associate Director for Policy, Planning and Evaluation, Centers for Disease Control and Prevention.

[FR Doc. 02-4371 Filed 2-22-02; 8:45 am]

BILLING CODE 4163-18-P